DEPARTMENT OF ENERGY

Federal Energy Regulatory Commission

Combined Notice of Filings #1

Take notice that the Commission received the following electric corporate filings:

Docket Numbers: EC14-68-000.

Applicants: Integrys Energy Group, Inc., Balfour Beatty Infrastructure Partners G, Upper Peninsula Power Company.

Description: Integrys Energy Group, Inc et al (Applicants) submit their Petition for issuance of Declaratory Orders.

Filed Date: 4/10/14.

Accession Number: 20140410-0030.

Comments Due: 5 p.m. ET 5/1/14.

Docket Numbers: EC14-75-000.

Applicants: American Electric Power Service Corporation.

Description: Application for Authorization to Transfer Jurisdictional Assets Under Section 203 of the Federal Power Act of American Electric Power Service Corporation, on behalf of its affiliates, Wheeling Power Company and AEP Generation Resources Inc.

Filed Date: 4/11/14.

Accession Number: 20140411-5202.

Comments Due: 5 p.m. ET 5/2/14.

Take notice that the Commission received the following electric rate filings:

Docket Numbers: ER10-2125-005.

Applicants: Judith Gap Energy LLC.

Description: Supplement to December 24, 2013 Triennial Report of Judith Gap Energy LLC.

Filed Date: 3/24/14.

Accession Number: 20140324-5220.

Comments Due: 5 p.m. ET 4/23/14.

Docket Numbers: ER10-2128-005.

Applicants: Wolverine Creek Energy LLC.

Description: Supplement to December 24, 2013 Triennial Report of Wolverine Creek Energy LLC.

Filed Date: 3/24/14.

Accession Number: 20140324-5134.

Comments Due: 5 p.m. ET 4/23/14.

Docket Numbers: ER10-2129-004.

Applicants: Grays Harbor Energy LLC.

Description: Supplement to December 24, 2013 Triennial Report of Gray's Harbor Energy LLC.

Filed Date: 3/24/14.

Accession Number: 20140324-5138.

Comments Due: 5 p.m. ET 4/23/14.

Docket Numbers: ER10-2298-004.

Applicants: Enserco Energy LLC.

Description: Notice of Change in Status to be effective 6/10/2014.

Filed Date: 4/11/14.

Accession Number: 20140411-5114.

Comments Due: 5 p.m. ET 5/2/14.

Docket Numbers: ER10-3079-006; ER12-126-008; ER11-2539-003; ER11-2540-003; ER11-2542-003.

Applicants: Tyr Energy, LLC, Trademark Merchant Energy, LLC, Plains End, LLC, Plains End II, LLC, Rathdrum Power, LLC.

Description: Amendment to December 27, 2013 Updated Market Power Analysis for Northwest Region of Tyr Energy, LLC, et al.

Filed Date: 3/19/14.

Accession Number: 20140319-5108.

Comments Due: 5 p.m. ET 4/23/14.

Docket Numbers: ER11-2154-003.

Applicants: Twin Eagle Resource Management, LLC.

Description: Notice of Change in Status to be effective 6/10/2014.

Filed Date: 4/11/14.

Accession Number: 20140411-5115.

Comments Due: 5 p.m. ET 5/2/14.

Docket Numbers: ER14-1194-001.

Applicants: Southwestern Public Service Company.

Description: 4-11-14_RS114 FCA-IMP-AMEND to be effective 3/1/2014.

Filed Date: 4/11/14.

Accession Number: 20140411-5203.

Comments Due: 5 p.m. ET 5/2/14.

Docket Numbers: ER14-1196-001.

Applicants: Southwestern Public Service Company.

Description: 4-11-14_RS115 FCA-IMP-AMEND to be effective 3/1/2014.

Filed Date: 4/11/14.

Accession Number: 20140411-5212.

Comments Due: 5 p.m. ET 5/2/14.

Docket Numbers: ER14-1197-001.

Applicants: Southwestern Public Service Company.

Description: 4-11-14_RS116 FCA-IMP-AMEND to be effective 3/1/2014.

Filed Date: 4/11/14.

Accession Number: 20140411-5216.

Comments Due: 5 p.m. ET 5/2/14.

Docket Numbers: ER14-1198-001.

Applicants: Southwestern Public Service Company.

Description: 4-11-14_RS117 FCA-IMP-AMEND to be effective 3/1/2014.

Filed Date: 4/11/14.

Accession Number: 20140411-5217.

Comments Due: 5 p.m. ET 5/2/14.

Docket Numbers: ER14-1200-001.

Applicants: Southwestern Public Service Company.

Description: 4-11-14_RS136 FCA-IMP-AMEND to be effective 3/1/2014.

Filed Date: 4/11/14.

Accession Number: 20140411-5218.

Comments Due: 5 p.m. ET 5/2/14.

Docket Numbers: ER14-1201-001.

Applicants: Southwestern Public Service Company.

Description: 4-11-14_RS137 FCA-IMP-AMEND to be effective 3/1/2014.

Filed Date: 4/11/14.

Accession Number: 20140411-5219.

Comments Due: 5 p.m. ET 5/2/14.

Docket Numbers: ER14-1320-001.

Applicants: Midcontinent Independent System Operator, Inc.

Description: 2014-04-11_Northeast Power-ITC-AECI T-T IA Amendment to be effective 1/29/2014.

Filed Date: 4/11/14.

Accession Number: 20140411-5245.

Comments Due: 5 p.m. ET 5/2/14.

Docket Numbers: ER14-1348-001.

Applicants: The Dow Chemical Company.

Description: Amendment to Petition (TDCC) to be effective 2/21/2014.

Filed Date: 4/11/14.

Accession Number: 20140411-5190.

Comments Due: 5 p.m. ET 5/2/14.

Docket Numbers: ER14-1349-001.

Applicants: Union Carbide Corporation.

Description: Amendment to Petition (UCC) to be effective 2/21/2014.

Filed Date: 4/11/14.

Accession Number: 20140411-5201.

Comments Due: 5 p.m. ET 5/2/14.

Docket Numbers: ER14-1702-000.

Applicants: Delmarva Power & Light Company, PJM Interconnection, L.L.C.

Description: Delmarva submits revisions to PJM OATT Att H-3A re loss factors-DE Cities/Towns to be effective 6/1/2014.

Filed Date: 4/10/14.

Accession Number: 20140410-5126.

Comments Due: 5 p.m. ET 5/1/14.

Docket Numbers: ER14-1703-000.

Applicants: NorthWestern Corporation.

Description: SA 715—Park Street Holdings Construction Agreement to be effective 4/12/2014.

Filed Date: 4/11/14.

Accession Number: 20140411-5067.

Comments Due: 5 p.m. ET 5/2/14.

Docket Numbers: ER14-1704-000.

Applicants: Trans Bay Cable LLC.

Description: Revisions to Transmission Owner Tariff to be effective 4/23/2014.

Filed Date: 4/11/14.

Accession Number: 20140411-5098.

Comments Due: 5 p.m. ET 5/2/14.

Docket Numbers: ER14-1705-000.

Applicants: California Independent System Operator Corporation.

Description: 2014-04-11_NVEnergy_ABAOA_Amendment to be effective 6/11/2014.

Filed Date: 4/11/14.

Accession Number: 20140411-5133.

Comments Due: 5 p.m. ET 5/2/14.

Docket Numbers: ER14-1706-000.

Applicants: Nevada Power Company.

Description: Rate Schedule No. 141 Tri-Party Interconnection_Operating Agreement—VEA_DOE to be effective 6/11/2014.

Filed Date: 4/11/14.

Accession Number: 20140411-5165.

Comments Due: 5 p.m. ET 5/2/14.

Docket Numbers: ER14-1707-000.

Applicants: Public Service Company of New Mexico.

Description: PNM NextEra Revised TSA to be effective 5/1/2014.

Filed Date: 4/11/14.

Accession Number: 20140411-5173.

Comments Due: 5 p.m. ET 5/2/14.

Docket Numbers: ER14-1708-000.

Applicants: Commonwealth Edison Company, PJM Interconnection, L.L.C.

Description: ComEd submits revisions to PJM OATT Att H-13A re Grand Prairie Incentive Request to be effective 5/21/2014.

Filed Date: 4/11/14.

Accession Number: 20140411-5184.

Comments Due: 5 p.m. ET 5/2/14.

Docket Numbers: ER14-1709-000.

Applicants: Midcontinent Independent System Operator, Inc.

Description: 2014-04-11_SA 2521 ITC-Tuscola Wind Amended GIA (J202) to be effective 4/12/2014.

Filed Date: 4/11/14.

Accession Number: 20140411-5186.

Comments Due: 5 p.m. ET 5/2/14.

Docket Numbers: ER14-1710-000.

Applicants: Midcontinent Independent System Operator, Inc.

Description: 2014-04-11_SA 2523 ITC-Pheasant Run Amended GIA (J075) to be effective 4/12/2014.

Filed Date: 4/11/14.

Accession Number: 20140411-5188.

Comments Due: 5 p.m. ET 5/2/14.

Take notice that the Commission received the following electric securities filings:

Docket Numbers: ES14-28-000.

Applicants: Upper Peninsula Power Company.

Description: Integrys Energy Group, Inc et al (Applicants) submit their Petition for issuance of Declaratory Orders.

Filed Date: 4/10/14.

Accession Number: 20140410-0030.

Comments Due: 5 p.m. ET 5/1/14.

Take notice that the Commission received the following foreign utility company status filings:

Docket Numbers: FC14-13-000.

Applicants: Varna Wind, Inc.

Description: Notification of Self-Certification of Foreign Utility Company Status of Varna Wind, Inc.

Filed Date: 4/11/14.

Accession Number: 20140411-5195.

Comments Due: 5 p.m. ET 5/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2014.
Nathaniel J. Davis, Sr.,
Deputy Secretary.

[FR Doc. 2014-08929 Filed 4-18-14; 8:45 am]

BILLING CODE 6717-01-P